FEDERAL COMMUNICATIONS COMMISSION

Notice of Public Information Collection Requirement(s) Being Reviewed by the Federal Communications Commission, Comments Requested

May 22, 2007.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 30, 2007. If you anticipate that you will be submitting comments, but find it difficult to do so within the period of time allowed by this notice, you should advise the contacts listed below as soon as possible.

ADDRESSES: Direct all PRA comments to Jasmeet K. Seehra, Office of Management and Budget (OMB), Room 10236 NEOB, Washington, DC 20503, (202) 395-3123, or via fax at (202) 395-5167 or via Internet at Jasmeet_K._Seehra@omb.eop.gov and to Cathy Williams, Federal Communications Commission, Room 1-C823, 445 12th Street, SW., Washington, DC.

FOR FURTHER INFORMATION CONTACT: For additional information concerning the information collection(s), contact Cathy Williams at (202) 418-2918 or via the Internet at PRA@fcc.gov.

SUPPLEMENTARY INFORMATION: OMB Control Number: 3060-1100.

Title: Section 15.117, Broadcast Receivers.

Form No.: Not applicable.

Type of Review: Extension of a currently approved collection.

Respondents: Business or other for-profit entities.

Number of Respondents: 10,000 respondents; 100,000 responses.

Estimated Time Per Response: 0.25 hours (15 minutes).

Frequency of Response: One time reporting requirement.

Obligation to Respond: Mandatory.

Total Annual Burden: 25,000 hours.

Total Annual Cost: None.

Nature and Extent of Confidentiality: An assurance of confidentiality is not offered because this information collection does not require the collection of personal identifiable information (PII) from individuals.

Privacy Act Impact Assessment: Not applicable.

Needs and Uses: The Commission adopted on April 25, 2007, a Second Report and Order, In the Matter of Second Periodic Review of the Commission's Rules and Policies Affecting the Conversion to Digital Television, MB Docket 03-15, FCC 07-69. The DTV Act amended 47 U.S.C. Section 309(j)(14)(A) to establish a final date of February 17, 2009 set by Congress for the transition from analog to digital television service by full power television broadcasters. In a continuing effort to inform consumers of this impending deadline, the Commission will require sellers at the point-of-sale to alert consumers about analog-only televisions. Analog-only television equipment will not be able to receive an over-the-air broadcast signal unless they get a digital TV or a box to convert the digital signals to analog or subscribe to pay TV service after February 17, 2009. To further protect consumers, the Commission established 47 CFR 15.117(i) which prohibits the manufacture or import of television receivers that do not contain a digital tuner after March 1, 2007. Because the rule does not prohibit sale of analog-only television equipment from inventory, the Commission decided it is necessary to require retailers and other sellers who choose to continue selling analog-only television equipment to display a sign or label disclosing the limitations of analog-only equipment after February 17, 2009. Therefore, the Commission adopted on April 25, 2007, a Second Report and Order, In the Matter of Second Periodic Review of the Commission's Rules and Policies Affecting the Conversion to Digital Television, MB Docket 03-15, FCC 07-69. This rulemaking established 47 CFR 15.117(k) which became effective on May 25, 2007.

47 CFR 15.117(k) states that any person that displays or offers for sale or rent television receiving equipment that is not capable of receiving, decoding and tuning digital signals that the seller must place conspicuously and in close proximity to the television broadcast receivers a sign containing, in clear and conspicuous print, the Consumer Alert Disclosure. The text should be in a size of type large enough to be clear, conspicuous and readily legible, consistent with the dimensions of the equipment and the label. The information may be printed on a transparent material and affixed to the screen, if the receiver includes a display, in a manner that is removable by the consumer and does not obscure the picture, or, if the receiver does not include a display, in a prominent location on the device, such as on the top or front of the device, when displayed for sale, or the information in this format may be displayed separately immediately adjacent to each television broadcast receiver offered for sale and clearly associated with the analog-only model to which it pertains. This requirement would also apply to persons who offer for sale or television broadcast receivers via direct mail, catalog, or electronic means.

The Consumer Alert Disclosure must contain the following text: This television receiver has only an analog broadcast tuner and will require a converter box after February 17, 2009, to receive over-the-air broadcasts with an antenna because of the Nation's transition to digital broadcasting. Analog-only TVs should continue to work as before with cable and satellite TV services, gaming consoles, VCRs, DVD players, and similar products. For more information, call the Federal Communications Commission at 1-888-225-5322 (TTY: 1-888-835-5322) or visit the Commission's digital television Web site at: http://www.dtv.gov.

Federal Communications Commission.
Marlene H. Dortch,
Secretary.

[FR Doc. E7-10348 Filed 5-29-07; 8:45 am]

BILLING CODE 6712-01-P